ENVIRONMENTAL PROTECTION AGENCY

[ER-FRL-9015-6]

Environmental Impact Statements; Notice of Availability

Responsible Agency: Office of Federal Activities, General Information (202) 564-7146 or http://www.epa.gov/compliance/nepa/.

Weekly receipt of Environmental Impact Statements

Filed 06/16/2014 Through 06/20/2014

Pursuant to 40 CFR 1506.9.

Notice: Section 309(a) of the Clean Air Act requires that EPA make public its comments on EISs issued by other Federal agencies. EPA's comment letters on EISs are available at: http://www.epa.gov/compliance/nepa/eisdata.html.

EIS No. 20140177, Final EIS, NRCS, UT, Green River Diversion Rehabilitation Project, Review Period Ends: 07/28/2014, Contact: David Brown 801-524-4551.

EIS No. 20140178, Final EIS, FERC, TX, Freeport LNG Liquefaction Project and Phase II Modification Project, Review Period Ends: 07/28/2014, Contact: Eric Tomasi 202-502-8097.

EIS No. 20140179, Final EIS, USFS, CA, Sugarloaf Hazardous Fuels Reduction, Review Period Ends: 07/28/2014, Contact: Carol Spinos 530-534-6500.

EIS No. 20140180, Draft EIS, NPS, CA, Sequoia and Kings Canyon National Parks Wilderness Stewardship Plan, Comment Period Ends: 08/25/2014, Contact: Nancy Hendricks 559-565-3102.

EIS No. 20140181, Draft Supplement, BR, ND, Northwest Area Water Supply Project, Comment Period Ends: 08/11/2014, Contact: Alicia Waters 701-221-1206.

EIS No. 20140182, Final EIS, DOI, 00, PROGRAMMATIC—Deepwater Horizon Oil Spill: Phase III Early Restoration Plan, Review Period Ends: 07/28/2014, Contact: Nanciann Regalado 404-679-4161.

Dated: June 24, 2014.
Dawn Roberts,
Management Analyst, Office of Federal Activities.

[FR Doc. 2014-15160 Filed 6-26-14; 8:45 am]

BILLING CODE 6560-50-P